DEPARTMENT OF THE INTERIOR

Fish and Wildlife Service

Availability of Draft Comprehensive Conservation Plan for Ouray National Wildlife Refuge, Vernal, UT

AGENCY: Fish and Wildlife Service. Interior.

ACTION: Notice of availability; correction.

SUMMARY: In the original submission published on February 24, 2000, the public comment period and who to send written comments to was inadvertently omitted.

DATES: Submit written comments by April 3, 2000.

ADDRESSES: Send written comments to Allison Banks, U.S. Fish and Wildlife Service, P.O. Box 25486, DFC, Denver, CO 80225. A copy of the Plan may be obtained by writing to U.S. Fish and Wildlife Service, 266 West 100 North, Suite 2, Vernal, UT 84078; or download from http://www.r6.fws.gov/larp/.

FOR FURTHER INFORMATION CONTACT: Allison Banks, U.S. Fish and Wildlife Service, P.O. Box 25486, DFC, Denver, CO 80225, 303/236-8145 extension 626; fax 303/236-4792.

SUPPLEMENTARY INFORMATION: Ouray NWR is located in northeast Utah. Implementation of the Plan will focus on adaptive resource management of wetland, grassland, and semidesert shrubland habitats, restoration and improved management of riparian bottomlands, recovery of endangered fish species of the Upper Colorado River Ecosystem, and opportunities for compatible wildlife-dependent recreation. Habitat monitoring and evaluation will be emphasized as the Plan is implemented. Opportunities for compatible wildlife-dependent recreation will continue to be provided.

The Notice of Availability published on February 24, 2000 (65 FR 9291), is corrected as follows: on page 9291, middle column, a date paragraph is added and the addresses paragraph is revised on where to send written comments.X

Dated: February 25, 2000.
Terry T. Terrell,
Deputy Regional Director, Denver, Colorado.

E

[FR Doc. 00-5006 Filed 3-1-00; 8:45 am]

BILLING CODE 4310-55-M